DEPARTMENT OF ENERGY

Federal Energy Regulatory Commission

Notice of Intent To File Application for a New License

August 6, 2003.

Take notice that the following notice of intent has been filed with the Commission and is available for public inspection:

a. Type of filing: Notice of Intent to File an Application for New License.

b. Project No: 2242.

c. Date filed: July 23, 2003.

d. Submitted By: City of Eugene, Oregon.

e. Name of Project: Carmen-Smith Project.

f. Location: The project is located in Linn County, Oregon on the McKenzie river, 70 miles east of Eugene-Springfield. The majority of the project is located on lands within the Willamette National Forest.

g. Filed Pursuant to: Section 15 of the Federal Power Act, 18 CFR 16.6.

h. Pursuant to section 16.19 of the Commission's regulations, the licensee is required to make available the information described in Section 16.7 of the regulations. Such information is available from the Eugene Water & Electric Board, 500 East Fourth Avenue, Eugene, OR 97401. Contact: Ms. Patty Sabol, (504) 484-2411.

i. FERC Contact: Robert Easton, 202-502-6045, Robert.Easton@Ferc.Gov.

j. Expiration Date of Current License: November 30, 2008.

k. Project Description: The Carmen-Smith project consist of the Carmen diversion dam and reservoir, the Carmen power tunnel, the Smith dam and reservoir, the Smith power tunnel, a surge chamber, the Carmen power plant, the Trail-Bridge re-regulating dam and reservoir, the Trail Bridge power plant, the velocity barrier and spawning channel and a 19 mile long transmission line.

l. The licensee states its unequivocal intent to submit an application for a new license for Project No. 2242. Pursuant to 18 CFR 16.9(b)(1) each application for a new license and any competing license applications must be filed with the Commission at least 24 months prior to the expiration of the existing license. All applications for license for this project must be filed by November 30, 2006.

A copy of the application is available for review at the Commission in the Public Reference Room or may be viewed on the Commission's Web site at http://www.ferc.gov using the “FERRIS” link. Enter the docket number excluding the last three digits in the docket number field to access the document. For assistance, call 1-866-208-3676 or for TTY, (202) 502-8659. A copy is also available for inspection and reproduction at the address in item h above.

Magalie R. Salas,
Secretary.

[FR Doc. 03-20615 Filed 8-12-03; 8:45 am]

BILLING CODE 6717-01-P